DEPARTMENT OF AGRICULTURE

Animal and Plant Health Inspection Service

7 CFR Part 301

[Docket No. APHIS-2023-0007]

Citrus Canker; Designating Alabama a Commercial Citrus-Producing Area

AGENCY: Animal and Plant Health Inspection Service, USDA.

ACTION: Final rule.

SUMMARY: We are revising the regulations to designate the State of Alabama as a commercial citrus-producing area in the current citrus canker regulations, and to update the scientific name for citrus canker used in the regulations. The State of Alabama has stated that it has commercial citrus production in the State, and the scientific name used in the regulations for citrus canker is obsolete and no longer used. These actions will update the regulations in order to provide Alabama protections that are afforded under the regulations to commercial citrus-producing States and be current as to the scientific name for citrus canker.

DATES: Effective December 8, 2023.

FOR FURTHER INFORMATION CONTACT: Dr. Derek A. Woller, Senior Regulatory Policy Specialist, RCC, IRM, PEIP, PPQ, APHIS, 4700 River Road, Riverdale, MD 20737-1228; (480) 490-6454; Derek.A.Woller@usda.gov.

SUPPLEMENTARY INFORMATION:

Background

The U.S. Department of Agriculture's Animal and Plant Health Inspection Service (APHIS) imposes quarantines on citrus products in accordance with the regulatory authority provided under the Plant Protection Act (PPA or the Act) (7 U.S.C. 7701 et seq.). Under the Act, APHIS may prohibit or restrict the importation or interstate movement of any plant or plant product if the agency determines it is necessary to prevent the introduction into the United States or dissemination of a plant pest or noxious weed within the United States.

APHIS' regulations in 7 CFR part 301 (referred to below as the regulations) regulate the interstate movement of certain plants, plant parts, and other articles from areas of the United States quarantined because of citrus canker. These regulations are to prevent the interstate spread of citrus canker, and they are contained in “Subpart M—Citrus Canker” (7 CFR 301.75-1 through 301.75-17).

Citrus canker is a plant disease caused by strains of the bacterium Xanthomonas citri subsp. citri. The disease is known to affect plants and plant parts, including fruit, of citrus and citrus relatives (Family Rutaceae). It can cause defoliation and other serious damage to the leaves and twigs of susceptible plants. It may also make the fruit of diseased plants unmarketable by causing lesions on the fruit. Infected fruit may also drop from trees before reaching maturity. Some strains of Xanthomonas citri. subsp. citri. are aggressive and can infect susceptible plants rapidly and lead to extensive economic losses in commercial citrus-producing areas.

Current regulations refer to the bacterium that causes citrus canker as Xanthomonas axonopodis pv. citri; however, there has been an internationally recognized change in the nomenclature. The bacterium should be listed as Xanthomonas citri subsp. citri; the term Xanthomonas axonopodis pv. citri is obsolete and no longer in use. Therefore, we are revising the definition of citrus canker in § 301.75-1, accordingly.

Paragraph (a) of § 301.75-5 currently lists commercial citrus-producing areas in the United States. Listed States have stated to APHIS that they have commercial citrus production in their States. The State of Alabama has stated to APHIS that it has such production. Accordingly, we are adding the State of Alabama to this list.

This recognition will provide the State of Alabama with Federal protections regarding the interstate movement of regulated articles for citrus canker that are afforded to the areas currently listed in § 301.75-5(a).

Miscellaneous

We are also revising the regulations in “Subpart M—Citrus Canker” to add reference to Office of Management and Budget (OMB) control number 0579-0363 and replace references to 0579-0325 and 0579-0369. OMB control numbers 0579-0325 and 0579-0369 were discontinued, and the associated activities are currently under 0579-0363.

Effective Date

This rule updates APHIS' domestic regulations regarding citrus canker in order to update the scientific name used for citrus canker and to recognize Alabama as a commercial citrus-producing State. With regard to the former change, the scientific name listed in the regulations is obsolete and no longer in international taxonomic use. With regard to the latter change, APHIS updates the regulations in this manner whenever a State claims that commercial citrus production occurs in the State. Because the international taxonomic norms are not within APHIS' purview, and because the update to the list of commercial citrus-producing States is based on a State's self-designation and ensures that the regulations align with this designation, there is good cause pursuant to 5 U.S.C. 553 to consider notice and a comment period for this rule unnecessary and contrary to the public interest and to make it effective less than 30 days after publication in the Federal Register.

Further, this action is a category that OMB has designated exempt from the provisions of Executive Order 12866. Finally, this action is not a rule as defined by the Regulatory Flexibility Act (5 U.S.C. 601 et seq.) and, thus, it is exempt from the provisions of that Act.

Executive Order 12372

This program/activity is listed in the Catalog of Federal Domestic Assistance under No. 10.025 and is subject to Executive Order 12372, which requires intergovernmental consultation with State and local officials. (See 2 CFR chapter IV.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no reporting or recordkeeping requirements under the Paperwork Reduction Act of 1995 (44 U.S.C. 3501 et seq.).

Lists of Subjects in 7 CFR Part 301

Agricultural commodities, Plant diseases and pests, Quarantine, Interstate Movement.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3. Section 301.75-15 issued under Sec. 204, Title II, Public Law 106-113, 113 Stat. 1501A-293; sections 301.75-15 and 301.75-16 issued under Sec. 203, Title II, Public Law 106-224, 114 Stat. 400 (7 U.S.C. 1421 note).

2. Amend § 301.75-1 by revising the definition of “Citrus canker” to read as follows:

§ 301.75-1 Definitions.

* * * * *

Citrus canker. A plant disease caused by strains of the bacterium Xanthomonas citri. subsp. citri.

* * * * *

3. Amend § 301.75-5, by revising paragraph (a) to read as follows:

§ 301.75-5 Commercial citrus-producing areas.

(a) The areas as shown in the following table are designated as commercial citrus-producing areas:

Table 1 to Paragraph (a)
Commercial citrus-producing areas
Alabama.
American Samoa.
Arizona.
California.
Florida.
Guam.
Hawaii.
Louisiana.
Northern Mariana Islands.
Puerto Rico.
Texas.
Virgin Islands of the United States.

4. Amend § 301.75-6 by revising the OMB citation at the end of the section to read as follows:

§ 301.75-6 Interstate movement of regulated nursery stock from a quarantined area.

* * * * *

(Approved by the Office of Management and Budget under control number 0579-0363)

5. Amend § 301.75-7 by revising the OMB citation at the end of the section to read as follows:

§ 301.75-7 Interstate movement of regulated fruit from a quarantined area.

* * * * *

(Approved by the Office of Management and Budget under control number 0579-0363)

6. Amend § 301.75-12 by adding an OMB citation at the end of the section to read as follows:

§ 301.75-12 Certificates and limited permits.

* * * * *

(Approved by the Office of Management and Budget under control number 0579-0363)

7. Amend § 301.75-13 by adding an OMB citation at the end of the section to read as follows:

§ 301.75-13 Compliance agreements.

* * * * *

(Approved by the Office of Management and Budget under control number 0579-0363)

Done in Washington, DC, this 4th day of December 2023.
Michael Watson,
Acting Administrator, Animal and Plant Health Inspection Service.

[FR Doc. 2023-27034 Filed 12-7-23; 8:45 am]

BILLING CODE 3410-34-P